DEPARTMENT OF THE INTERIOR

Bureau of Land Management

[PO# 4820000251; Order #O2412-014-004-047181.0]

Filing of Plats of Survey; Utah

AGENCY: Bureau of Land Management, Interior.

ACTION: Notice of official filing.

SUMMARY: This notice is to inform the public of the official filing of the plats of survey of the lands described below in the BLM Utah State Office, in Salt Lake City, Utah. The surveys announced in this notice are necessary for the management of lands administered by the agencies indicated.

DATES: The plats of survey have been officially filed on the dates indicated below.

ADDRESSES: Written notices protesting a survey must be sent to the Utah State Director, BLM Utah State Office, 440 West 200 South, Suite 500, Salt Lake City, Utah 84101-1345.

FOR FURTHER INFORMATION CONTACT: Matthew J. Kurchinski, Chief Cadastral Surveyor for Utah, BLM, Branch of Geographic Sciences, 440 West 200 South, Suite 500, Salt Lake City, Utah 84101-1345, telephone (801) 539-4139, or email mkurchin@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The plats of survey described below represent surveys executed at the request of the BLM and the Bureau of Indian Affairs (BIA) and are necessary for the management of these lands. The land surveys are represented on the following plats of survey:

Salt Lake Meridian, Utah

T. 8 N., R. 8 E., Group No. 1464, in two sheets, prepared at the request of the BLM, was accepted December 18, 2024, and officially filed January 8, 2025.

T. 2 N., R. 3 W., Group No. S-347, prepared at the request of the BLM, was accepted May 9, 2025, and officially filed May 13, 2025.

T. 11 S., R. 2 W., Group No. 1423, prepared at the request of the BLM, was accepted December 19, 2024, and officially filed January 8, 2025.

T. 11 S., R. 3 W., Group No. 1423, prepared at the request of the BLM, was accepted December 19, 2024, and officially filed January 8, 2025.

T. 11 S., R. 3 W., Group No. S-342, prepared at the request of the BLM, was accepted December 20, 2024, and filed January 8, 2025.

T. 12 S., R. 6 W., Group No. 1459, prepared at the request of the BLM, was accepted September 27, 2024, and officially filed October 22, 2024.

T. 12 S., R. 12 W., Group No. 1467, prepared at the request of the BLM, was accepted February 29, 2024, and officially filed March 4, 2024.

T. 41 S., R. 12 W., Group No. 1456, prepared at the request of the BLM, was accepted May 18, 2023, and officially filed May 22, 2023.

T. 42 S., R. 14 W., Group No. 1475, prepared at the request of the BLM, was accepted February 5, 2024, and officially filed February 15, 2024.

T. 28 S., R. 16 W., Group No. 1471, prepared at the request of the BLM, was accepted December 17, 2024, and officially filed January 8, 2025.

T. 43 S., R. 1 E., Group No. 1476, prepared at the request of the BLM, was accepted November 25, 2024, and officially filed January 8, 2025.

T. 3 S., R. 4 E., Group No. S-343, in four sheets, prepared at the request of the BLM, was accepted May 9, 2025, and officially filed May 13, 2025.

T. 23 S., R. 5 E., Group No. 1460, prepared at the request of the BLM, was accepted September 27, 2024, and officially filed October 22, 2024.

T. 20 S., R. 6 E., Group No. 1455, in three sheets, prepared at the request of the BLM, was accepted February 28, 2023, and officially filed March 2, 2023.

T. 20 S., R. 7 E., Group No. 1455, in two sheets, prepared at the request of the BLM, was accepted February 28, 2023, and officially filed March 2, 2023.

T. 43 S., R. 20 E., Group No. 1477, prepared at the request of the BIA, was accepted September 29, 2023, and officially filed October 17, 2023.

T. 27 S., R. 23 E., Group No. 1463, prepared at the request of the BLM, was accepted November 25, 2024, and officially filed January 8, 2025.

Copies of the plats of survey and related field notes are available for public review in the BLM Utah State Office as a matter of information.

A person or party who wishes to protest one or more of the above surveys must file a written notice within 30-calendar days from the date of this publication with the BLM Utah State Director, at the address listed in the ADDRESSES section above. The notice of protest must identify the plat(s) of survey the person or party wishes to protest. A statement of reasons for the protest, if not filed with the notice of protest, must be filed with the Utah State Director within 30-calendar days after the notice of protest is filed.

Before including your address, phone number, email address, or other personal identifying information in your protest, you should be aware that your entire protest—including your personal identifying information—may be made publicly available at any time. While you can ask us to withhold your personal identifying information from public review, we cannot guarantee we will be able to do so.

Authority: 43 U.S.C. chap. 3.

Matthew J. Kurchinski,
Chief Cadastral Surveyor for Utah.

[FR Doc. 2025-15298 Filed 8-11-25; 8:45 am]

BILLING CODE 4331-25-P